NATIONAL SCIENCE FOUNDATION

Notice of Permit Modification Received Under the Antarctic Conservation Act of 1978

AGENCY: National Science Foundation.

ACTION: Notice of Permit Modification Request Received and Permit Issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at Title 45 Part 671 of the Code of Federal Regulations. This is the required notice of a requested permit modification and permit issued.

FOR FURTHER INFORMATION CONTACT: Nature McGinn, ACA Permit Officer, Division of Polar Programs, Rm. 755, National Science Foundation, 4201 Wilson Boulevard, Arlington, VA 22230. Or by email: ACApermits@nsf.gov

SUPPLEMENTARY INFORMATION:

1. The Foundation issued a permit (ACA 2016-014) to Dwayne Stevens, Marine Operations Manager, Lindblad Expeditions on November 1, 2015. The issued permit allows the applicant to operate small, battery-operated, remotely controlled unmanned aerial vehicles (UAVs) equipped with cameras for educational, outreach, and commercial purposes.

Now the applicant proposes a permit modification to update the guidelines regarding the hiring and experience of UAV pilots and to include two additional pilot profiles. The Environmental Officer has reviewed the modification request and has determined that the amendment is not a material change to the permit, and it will have a less than a minor or transitory impact.

The permit modification was issued on November 10, 2016.

2. The Foundation issued a permit (ACA 2014-006) to Eric Strangeland, VP Operations, Quark Expeditions Inc. on September 18, 2013. The issued permit allows the applicant to conduct waste management activities associated with tourism activities including shore excursions, kayaking, camping, cross country skiing, ice climbing and mountaineering in the Antarctic Peninsula region.

A recent modification to this permit, dated November 7, 2014, permitted the applicant to allow for the conduct of waste management activities associated with downhill skiing, polar plunging, and stand-up paddleboarding.

Now the applicant proposes a permit modification to update their schedule of activities for 2016-17, clarify their kayaking and camping procedures, and change the named permit holder to Bill Davis, VP Operations, Quark Expeditions Inc. The Environmental Officer has reviewed the modification request and has determined that the amendment is not a material change to the permit, and it will have a less than a minor or transitory impact.

DATES: November 1, 2013 to March 31, 2017.

The permit modification was issued on November 10, 2016.
Nadene G. Kennedy,
Polar Coordination Specialist, Division of Polar Programs.

[FR Doc. 2016-27790 Filed 11-17-16; 8:45 am]

BILLING CODE 7555-01-P